DEPARTMENT OF TRANSPORTATION

National Highway Traffic Safety Administration

[Docket No. NHTSA-2010-0056; Notice 1]

Yokohama Tire Corporation, Receipt of Petition for Decision of Inconsequential Noncompliance

Yokohama Tire Corporation, (YTC) ¹, has determined that approximately 8,238 of its P215/60R15 93H AVID H4S passenger car replacement tires, manufactured between December 2, 2007, and September 19, 2009, do not fully comply with paragraph S5.5.1 of Federal Motor Vehicle Safety Standard (FMVSS) No. 139, New Pneumatic Radial Tires for Light Vehicles. YTC has filed an appropriate report dated January 19, 2010 pursuant to 49 CFR Part 573, Defect and Noncompliance Responsibility and Reports.

¹ Yokohama Tire Corporation (YTC) a replacement equipment manufacturer is incorporated in the state of California with its principal address at 601 South Acacia Avenue, Fullerton, CA 92831.

Pursuant to 49 U.S.C. 30118(d) and 30120(h) (see implementing rule at 49 CFR part 556), YTC has petitioned for an exemption from the notification and remedy requirements of 49 U.S.C. Chapter 301 on the basis that this noncompliance is inconsequential to motor vehicle safety.

This notice of receipt of YTC's petition is published under 49 U.S.C. 30118 and 30120 and does not represent any agency decision or other exercise of judgment concerning the merits of the petition.

Affected are approximately 8,238 size P215/60R15 93H Yokohama AVID H4S brand passenger car replacement tires manufactured between December 2, 2007, and September 19, 2009, at YTC's plant located in Salem, Virginia. Approximately 7,836 of these tires have been delivered to YTC's customers. The remaining tires (approximately 402) are being held in YTC's possession until they are correctly relabeled.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the approximately 7,836 ² tires that have already passed from the manufacturer to an owner, purchaser, or dealer.

² YTC's petition, which was filed under 49 CFR Part 556, requests an agency decision to exempt YTC as replacement equipment manufacturer from the notification and recall responsibilities of 49 CFR Part 573 for 7,836 of the affected tires. However, the agency cannot relieve FTS distributors of the prohibitions on the sale, offer for sale, or introduction or delivery for introduction into interstate commerce of the noncompliant tires under their control after FTS recognized that the subject noncompliance existed. Those tires must be brought into conformance, exported, or destroyed.

Paragraph S5.5 of FMVSS No. 139 requires in pertinent part:

S5.5 Tire markings. Except as specified in paragraphs (a) through (i) of S5.5, each tire must be marked on each sidewall with the information specified in S5.5(a) through (d) and on one sidewall with the information specified in S5.5(e) through (i) according to the phase-in schedule specified in S7 of this standard. The markings must be placed between the maximum section width and the bead on at least one sidewall, unless the maximum section width of the tire is located in an area that is not more than one-fourth of the distance from the bead to the shoulder of the tire. If the maximum section width falls within that area, those markings must appear between the bead and a point one-half the distance from the bead to the shoulder of the tire, on at least one sidewall. The markings must be in letters and numerals not less than 0.078 inches high and raised above or sunk below the tire surface not less than 0.015 inches. * * *

S5.5.1 Tire Identification Number

(a) * * *

(b) Tires manufactured on or after September 1, 2009. Each tire must be labeled with the tire identification number required by 49 CFR part 574 on the intended outboard sidewall of the tire. Except for retreaded tires, either the tire identification number or a partial tire identification number, containing all characters in the tire identification number, except for the date code and, at the discretion of the manufacturer, any optional code, must be labeled on the other sidewall of the tire. Except for retreaded tires, if a tire does not have an intended outboard sidewall, the tire must be labeled with the tire identification number required by 49 CFR part 574 on one sidewall and with either the tire identification number or a partial tire identification number, containing all characters in the tire identification number except for the date code and, at the discretion of the manufacturer, any optional code, on the other sidewall.

YTC explains that the noncompliance is that, due to a mold labeling error, the markings on the non-compliant tires omits the partial tire identification number on one of the sidewalls as required by paragraph S5.5.1(b). YTC explains that the non-compliant tires include the full Tire Identification Number (TIN) on one sidewall but omits the partial serial number on the other sidewall. YTC reported that this noncompliance was brought to their attention when “one of several molds were being certified and readied as part of a production quantity of replacement tires for the USA.”

YTC argues that this noncompliance is inconsequential to motor vehicle safety because the noncompliant sidewall marking does not affect the strength of the tires and all other labeling requirements have been met.

YTC supports this conclusion with the following arguments:

• Warranty and claim data for the subject tire model, for which production has been continual since November 2002, reveals a very small number of tire warranty returns and no reports of claims associated with accidents or tire failure incidents.

• The TIN becomes important in the event of a safety campaign and enables the owners to properly identify tires included in a captive action campaign. While the subject tires are noncompliant with the current FMVSS No. 139 sidewall marking regulation that requires a full TIN on the sidewall and at minimum a partial TIN on the other sidewall, these subject tires have a full TIN on one sidewall that can be used in case of a special campaign. These tires are marked in the same manner that was the requirement for many years prior to FMVSS No. 139 that now requires the application of the additional TIN identifier in a full or partial form. The absence of one TIN identifier on the one tire sidewall does not prohibit the ability to identify the tire as part of a safety campaign or tire recall when required.

YTC concludes in part that “the actual tire performance is not inconsequential as it relates to motor vehicle safety because the actual tire performance is not affected by this noncompliance, and in the unlikely event that the tires become subject to a safety or recall campaign, the tires can be identified by the single TIN on one sidewall of the tire.”

Furthermore, YTC points out three other factors that support its petition:

• All of the subject tires have been tested and certified compliant with all of the other durability requirements of FMVSS No. 139 for high speed, endurance, and low inflation pressure performance, and physical dimensions, resistance to bead unseating and strength.

• There have been a very small number of tire warranty returns (the incorrect markings were found when molds were being certified and readied).

• YTC has designed and implemented verification countermeasures to prevent any re-occurrence of any incorrect tire markings.

Supported by all of the above stated reasons, YTC believes that the described noncompliance of its tires to meet the requirements of FMVSS No. 139 is inconsequential to motor vehicle safety, and that its petition, to exempt it from providing recall notification of noncompliance as required by 49 U.S.C. 30118 and remedying the recall noncompliance as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: By logging onto the Federal Docket Management System (FDMS) website at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: June 21, 2010.

Authority: 49 U.S.C. 30118, 30120: delegations of authority at CFR 1.50 and 501.8.

Issued on: May 12, 2010.
Claude H. Harris,
Director, Office of Vehicle Safety Compliance.

[FR Doc. 2010-12057 Filed 5-19-10; 8:45 am]

BILLING CODE 4910-59-P